SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before September 16, 2002.

ADDRESSES: Send all comments regarding whether these information collections are necessary for the proper performance of the function of the agency, whether the burden estimates are accurate, and if there are ways to minimize the estimated burden and enhance the quality of the collections, to Linda Waters, Program Analyst, Office Government Contracting, Small Business Administration, 409 3rd Street, SW., Suite 8800, Washington DC 20416

FOR FURTHER INFORMATION CONTACT: Linda Waters, Program Analyst, (202) 205-7315 or Curtis B. Rich, Management Analyst, (202) 205-7030.

SUPPLEMENTARY INFORMATION:

Title: Prime Contracts Program Quarterly Report; Part A, Traditional PCR and Part B, Breakout PCR.

Form No's: 843A, 843B.

Description of Respondents: Procurement Center Representatives.

Annual Responses: 63.

Annual Burden: 1024.

Title: Nomination for the Small Business Prime Contractor and Nomination for the Small Business Subcontractor of the Year Award.

Form No's: 883, 1375.

Description of Respondents: Prime Contractor, Subcontractor Annual Responses: 469.

Annual Burden: 3,752.

Title: PRONet.

Form No: 1167.

Description of Respondents: Small Disadvantaged Businesses.

Annual Responses: 200,000.

Annual Burden: 50,000.

Jacqueline White,
Chief, Administrative Information Branch.

[FR Doc. 02-17955 Filed 7-16-02; 8:45 am]

BILLING CODE 8025-01-P